FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ACL America, Inc. (NVO), 19401 S. Main Street, Suite 102, Gardena, CA 90248, Officers: Shelly Y. Seong, Secretary (QI), Roy Seong, Director, Application Type: New NVO License.

ADS Cargo, Inc. (NVO), 11155 NW 33rd Street, Doral, FL 33172, Officers: Julieth X. Zapata, Secretary (QI), Daniel Caceres, President, Application Type: New NVO License.

Choiceone Logistics, Inc. (NVO & OFF), 10025 NW 116th Way, Suite 17, Medley, FL 33178, Officer: Trina M. Gomez, President (QI), Application Type: New NVO & OFF License.

Expolanka USA LLC (NVO), 175-11 148th Road, Suite 205, Jamaica, NY 11434, Officers: Chandana J. Rodrigo, President (QI), Stephen B. Schwark, Treasurer, Application Type: License Transfer to EFL Container Lines, LLC.

Hont Global Services, Inc. (NVO & OFF), 10700 Corporate Drive, Suite 118, Stafford, TX 77477, Officer: Humphrey T. Okonkwo, President (QI), Application Type: New NVO & OFF License.

Hye Mi Express U.S.A., Inc. (NVO), 22926 Pennsylvania Avenue, Torrance, CA 90501, Officers: Young Soo Song, Vice President (QI), Young Mi Song, President, Application Type: New NVO License.

Livingston International, Inc. (NVO & OFF), 670 Young Street, Tonawanda, NY 14150, Officers: Todd McKinnon, Assistant Secretary, Peter Luit, CEO, Application Type: QI Change.

Ocean Freight Express, LLC (NVO & OFF), 812 Downtowner Blvd., Suite K, Mobile, AL 36609, Officers: Thomas (Mac) H. McPhillips IV, Assistant Vice President (QI), Oscar Fermamdez. Member, Application Type: New NVO & OFF License.

Magnum-Ramstr Cargo LLC (NVO & OFF), 2 Ethel Road, Suite 202C, Edison, NJ 08817, Officers: Alexander Adimula, Secretary (QI), Dilip Ram, President, Application Type: QI Change.

qHub Logistics Corporation (NVO), 8801 Fallbrook Drive, Houston, TX 77064, Officers: Jimmy Chen, Vice President (QI), James J. Huang, President, Application Type: New NVO License.

SM Worldwide USA, Inc. (NVO & OFF), 9111 S. La Cienega Blvd., Suite 205, Inglewood, CA 90301, Officer: Cecilia Hyon, CEO, Application Type: New NVO & OFF License.

Summit Forwarding, LLC (OFF), 6400 Powers Ferry Road, Suite 250, Atlanta, GA 30339, Officer: Dean Kalinowski, Member/Manager (QI), Application Type: QI Change.

Swan & Hercules Global Logistics (USA), LLC dba SHGL dba SHGL (USA) (NVO & OFF), 4980 E. Beverly Road, Phoenix, AZ 85044, Officer: Sven Asselberghs, Director (QI), Application Type: New NVO & OFF License.

TDR Logistics, Inc. (NVO & OFF), 21115 Lycoming Street, Walnut, CA 91789, Officer: Min Z. Lai, President (QI), Application Type: New NVO & OFF License.

Dated: June 20, 2013.
By the Commission.
Karen V. Gregory.
Secretary.

[FR Doc. 2013-15218 Filed 6-25-13; 8:45 am]

BILLING CODE 6730-01-P